DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Measures of Co-Occurring Infrastructure (OMB No. 0930-0284)—Extension

This notice is a request to extend data collection for SAMHSA's Center for Mental Health Services and Center for Substance Abuse Treatment provider-level performance measures about the screening, assessment, and treatment of co-occurring disorders. The measures were developed with active input from COSIG grantees. Their input was also sought regarding suggestions for making the implementation and reporting processes as smooth as possible. Based on suggestions from COSIG grantees, CSAT has taken the following actions to improve data quality: clarified instructions, simplified minimum required reporting, developed optional reporting methods, allowed grantees time to work out internal processes, and held monthly conference calls to answer grantee questions and to allow grantees to share experiences with implementation. These steps allow CSAT to enhance working relationships with the grantees and improve the overall quality of the data collection process.

Implementation will be limited to 15 current States with Co-occurring State Incentive Grants (COSIG) and States receiving COSIG grants in future years. COSIG grants enable States to develop or enhance their infrastructure and capacity to provide accessible, effective, comprehensive, coordinated/integrated, and evidence-based treatment services to persons with co-occurring substance abuse and mental disorders. Only the immediate Office of the Governor of States may receive COSIG grants, because SAMHSA considers the Office of the Governor to have the greatest potential to provide the multi-agency leadership needed to accomplish COSIG goals. The COSIG program is part of SAMHSA's plan to achieve certain goals regarding services for persons with co-occurring substance use and mental disorders:

• Increase percentage of treatment programs that screen for co-occurring disorders;

• Increase percentage of treatment programs that assess for co-occurring disorders;

• Increase percentage of treatment programs that treat co-occurring disorders through collaborative, consultative, and integrated models of care;

• Increase the number of persons with co-occurring disorders served.

These measures will enable SAMHSA to benchmark and track progress toward these goals within COSIG states.

Information will be collected annually about the number and percentage of programs that offer screening, assessment, and treatment services for co-occurring disorders; and the number of clients actually screened, assessed, and treated through these programs. Information will also be collected annually about providers' policies regarding screening, assessment, and treatment services for persons with co-occurring disorders.

A questionnaire, to be completed by providers, contains 47 items, answered either by checking a box or entering a number in a blank. The questionnaire is available both in printed form and electronically. Obtaining the information to enter on the questionnaire will require respondent providers to track screening, assessment, and treatment services for clients.

COSIG States will be required to report information to SAMHSA for all providers directly participating in their COSIG projects. SAMHSA will consider sampling strategies for states with large numbers of participating providers and for providers serving large numbers of clients. Annual burden for the activities is shown below:

Data collection | Number of respondents | Responses per respondent | Hours per response | Total burden hours
Capacity to Screen, Assess, and Treat | 242 | 1 | 4.5 | 1,089
Policy on Screening, Assessment, Referral, and Treatment | 242 | 1 | 3 minutes | 12
Total | 242 |  |  | 1,101

Send comments to Summer King, SAMHSA Reports Clearance Officer, Room 7-1044, 1 Choke Cherry Road, Rockville, MD 20857 and e-mail her a copy at summer.king@samhsa.hhs.gov. Written comments should be received within 60 days of this notice.

Dated: January 7, 2008.
Elaine Parry,
Acting Director, Office of Program Services.

[FR Doc. E8-427 Filed 1-11-08; 8:45 am]

BILLING CODE 4162-20-P